DEPARTMENT OF STATE

[Public Notice 3914]

Advisory Committee on Law Applicable to Securities Intermediaries; Meeting Notice

The Study Group on International Securities Transactions of the State Department's Advisory Committee on Private International Law will hold a meeting on Tuesday, March 26, 2002, at the Federal Reserve Bank of New York on proposed multilateral treaty rules determining what laws are applicable to securities intermediaries, including the law applicable to dispositions of securities held through holding systems.

The drafting of such rules has been undertaken on a fast-track basis by the Hague Conference on Private International Law, an intergovernmental body on which the United States is represented. The meeting will provide an opportunity for public comment on the revised draft rules and will facilitate preparation of United States positions on whether to support a final meeting to conclude this process in the fall of 2002.

Subject to availability of time, the meeting will review relevant developments involving dematerialization and immobilization of securities, transfers of interest, and the role of multiple indirect and direct holding systems. A www site below contains the draft provisions. The proposed scope of the applicable law treaty regime is set out in Articles 2 and 3, rules on location relevant to determining applicable law in Article 4, rules deferring to insolvency law in Article 5, rules for countries with more than one system of law in Articles 9 and 16, and transition rules in Article 17.

Time permitting, the start up of a new project to be undertaken by UNIDROIT, a separate intergovernmental body, on the preparation of uniform substantive rules on transfer of interests by securities intermediaries, as well as clearance and settlement, will be discussed.

Documentation: The basic study by the Permanent Bureau of the Hague Conference, “Law applicable to disposition of securities held through indirect holding systems”, and current revised draft rules are obtainable at www.hcch.net. Commentators unable to retrieve these documents may request them from the Office of the Assistant Legal Adviser for Private International Law (L/PIL) by contacting Rosie Gonzales at 202-776-8420, by fax 202-776-8482, or by e-mail at pildb@his.com.

Attendance: The public is invited to attend up to the capacity of the meeting room and may participate subject to the rulings of the chair. The meeting will take place at 10 a.m. to 4 p.m. at the New York Federal Reserve Bank, 33 Liberty Street. Since access to the building is controlled, persons wishing to attend must, prior to c.o.b. Friday, March 22, notify Audrey Watson, New York Federal Reserve Bank, of their name, address, contact numbers, and affiliation, at 212-720-8403, or by fax 212-720-1756. For additional information on the draft convention, contact Joyce Hansen, Sr. Vice President, New York Federal Reserve Bank at the above numbers, and for information on the law harmonization work of the Hague Conference and UNIDROIT, contact Harold Burman, Office of the Legal Adviser, 202-776-8421; fax 202 776-8482.

Harold S. Burman,
Executive Director, Secretary of State's Advisory Committee on Private International Law, Department of State.

[FR Doc. 02-6484 Filed 3-15-02; 8:45 am]

BILLING CODE 4710-08-P